DEPARTMENT OF HEALTH AND HUMAN SERVICES

[Document Identifier: OS-4040-0008]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before November 26, 2021.

ADDRESSES: Submit your comments to sagal.musa@hhs.gov or by calling (202) 205-2634.

FOR FURTHER INFORMATION CONTACT: When submitting comments or requesting information, please include the document identifier 4040-0008-New-60D and project title for reference, to Sagal Musa, email: sagal.musa@hhs.gov, or call (202) 205-2634 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Budget Information for Construction Programs (SF-424C).

Type of Collection: Renewal.

OMB No.: 4040-0008.

Abstract: Budget Information for Construction Programs (SF-424C) is used by applicants to apply for Federal financial assistance. The Budget Information for Construction Programs (SF-424C) form allows the applicants to provide budget details as part of their grant proposals. This form is evaluated by Federal agencies as part of the overall grant application. This IC expires on February 28, 2022. Grants.gov seeks a three-year clearance of these collections.

Annualized Burden Hour Table
Forms (if necessary) | Respondents (if necessary) | Number of respondents | Number of responses per respondents | Average burden per response | Total burden hours
Budget Information for Construction Programs (SF-424C) | Grant-seeking organizations | 239 | 1 | 1 | 239
Total |  |  | 1 |  | 239

Sherrette A. Funn,
Paperwork Reduction Act Reports Clearance Officer, Office of the Secretary.

[FR Doc. 2021-20837 Filed 9-24-21; 8:45 am]

BILLING CODE 4151-AE-P